DEPARTMENT OF AGRICULTURE

Grain Inspection, Packers and Stockyards Administration

[02-c]

Cancellation of Mississippi's Delegation

AGENCY: Grain Inspection, Packers and Stockyards Administration, USDA.

ACTION: Notice.

SUMMARY: The United States Grain Standards Act, as amended (Act), provides for state agency delegations at export port locations within a state. The Mississippi Department of Agriculture and Commerce (Mississippi), is delegated to provide official export inspection and weighing services. However, there are no longer any bulk grain export port facilities in the State of Mississippi. Accordingly, GIPSA is announcing that Mississippi's delegation is being canceled effective December 1, 2002. This does not affect Mississippi's current designation to provide official domestic grain inspection and weighing services, effective January 1, 2001, through September 30, 2003.

DATES: December 1, 2002.

ADDRESSES: USDA, GIPSA, Janet M. Hart, Chief, Review Branch, Compliance Division, STOP 3604, room 1647-S, 1400 Independence Ave. SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

Section 7(e)(2) of the Act authorizes GIPSA's Administrator to delegate authority to a qualified State agency to perform all or specified functions involved in official inspection at export port locations within the state. GIPSA originally delegated Mississippi, main office in Jackson, Mississippi, under the Act on April 18, 1978. The sole grain export port facility in Pascagoula, Mississippi, has been razed. Therefore, Mississippi's delegation is cancelled. If any grain export port facility were to open in the future within the State of Mississippi, Mississippi would have the opportunity to become delegated again.

Authority: Pub. L. 94-582, 90 Stat. 2867, as amended (7 U.S.C. 71 et seq.).

Dated: November 14, 2002.
David R. Shipman,
Acting Administrator, Grain Inspection, Packers and Stockyards Administration.

[FR Doc. 02-30048 Filed 11-26-02; 8:45 am]

BILLING CODE 3410-EN-P